DEPARTMENT OF COMMERCE

National Oceanic and Atmospheric Administration

[RTID 0648-XD666]

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold two public scoping meetings via webinar pertaining to Regulatory Amendment 36 to the Fishery Management Plan (FMP) for the Snapper Grouper Fishery in the South Atlantic Region. This amendment revises the recreational vessel limits for gag and black grouper and considers necessary regulatory changes to accommodate the use of on-demand gear for the black sea bass pot commercial fishery.

DATES: The scoping meetings will be held via webinar February 12 and 13, 2024, beginning at 6 p.m., EDT. For specific dates and times, see SUPPLEMENTARY INFORMATION.

ADDRESSES: The meetings will be held via webinar. The webinar is open to members of the public. Information, including a link to webinar registration will be posted on the Council's website at: https://safmc.net/public-hearings-and-scoping/ when it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Scoping documents, an online public comment form, and other materials will be posted to the Council's website at https://safmc.net/public-hearings-and-scoping/ as they become available. Written comments should be addressed to John Carmichael, Executive Director, SAFMC, 4055 Faber Place Drive, Suite 201, N Charleston, SC 29405. Written comments must be received by February 16, 2024, by 5 p.m. During the meetings, Council staff will provide an overview of actions being considered in the amendment. Staff will answer clarifying questions on the presented information and the proposed actions. Following the presentation and questions, the public will have the opportunity to provide comments on the amendment.

Regulatory Amendment 36 to the Snapper Grouper FMP

Amendment 53 to the FMP for the Snapper Grouper Fishery of the South Atlantic Region became effective October 23, 2023, and established recreational vessel limits of 2 fish per vessel per day or per trip (depending on private recreational or for-hire component) of gag and black grouper. The Council intended for these limits to instead be an aggregate limit of 2 gag or black grouper per vessel. Therefore, the Council is considering revision of these recreational vessel limits to the originally intended aggregate limit through Regulatory Amendment 36.

Regulatory Amendment 36 also addresses accommodation of on-demand (also known as `ropeless') gear for black sea bass pots for the commercial sector. On-demand gear reduces the probability of entanglements by whales and other protected species by not having vertical lines in the water column for the entire time that the pots are being fished. This type of gear has been experimentally used for the last several years under exempted fishing permits (EFP), the latest of which expires in April 2025. Scoping for Regulatory Amendment 36 will inform the Council of what changes to gear marking, identification, and stowage requirements are necessary to enable practical use of this type of gear in the commercial pot fishery beyond the EFP expiration. The Council will then determine a plan for addressing these changes through Regulatory Amendment 36 and other future amendments, as necessary.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: January 23, 2024.
Diane M. DeJames-Daly,
Acting Deputy Director, Office of Sustainable Fisheries, National Marine Fisheries Service.

[FR Doc. 2024-01562 Filed 1-25-24; 8:45 am]

BILLING CODE 3510-22-P